NUCLEAR REGULATORY COMMISSION

[Docket Nos. 50-266 and 50-301; NRC-2020-0277]

NextEra Energy Point Beach, LLC; Point Beach Nuclear Plant, Units 1 and 2

AGENCY: Nuclear Regulatory Commission.

ACTION: Draft supplemental environmental impact statement; request for comment.

SUMMARY: The U.S. Nuclear Regulatory Commission (NRC) is issuing for public comment draft plant-specific Supplement 23, Second Renewal, to the Generic Environmental Impact Statement (GEIS) for License Renewal of Nuclear Plants, NUREG-1437, regarding the proposed subsequent renewal of Renewed Facility Operating License Nos. DPR-24 and DPR-27 for an additional 20 years of operation for Point Beach Nuclear Plant, Units 1 and 2 (Point Beach). The Point Beach facility is located on the western shore of Lake Michigan (approximately 15 miles NNE of Manitowoc, WI). Possible alternatives to the proposed action (subsequent license renewal) include no action and reasonable replacement power alternatives.

DATES: The staff will hold a public meeting through online webinar and teleconference call on the draft Supplemental Environmental Impact Statement (SEIS) in December, including a presentation on the preliminary findings and a transcribed public comment session. The public meeting details will be announced in the near future. Members of the public are invited to submit comments by January 3, 2022. Comments received after this date will be considered if it is practical to do so, but the NRC is able to ensure consideration only for comments received on or before this date.

ADDRESSES: You may submit comments by any of the following methods; however, the NRC encourages electronic comment submission through the Federal Rulemaking website:

• Federal Rulemaking Website: Go to https://www.regulations.gov/ and search for Docket ID NRC-2020-0277. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: PointBeach-SLRSEIS@nrc.gov.

For additional direction on obtaining information and submitting comments, see “Obtaining Information and Submitting Comments” in the SUPPLEMENTARY INFORMATION section of this document.

FOR FURTHER INFORMATION CONTACT: Phyllis M. Clark, Office of Nuclear Material Safety and Safeguards, U.S. Nuclear Regulatory Commission, Washington, DC 20555-0001; telephone: 301-415-6647; email: Phyllis.Clark@nrc.gov.

SUPPLEMENTARY INFORMATION:

I. Obtaining Information and Submitting Comments

A. Obtaining Information

Please refer to Docket ID NRC-2020-0277 when contacting the NRC about the availability of information regarding this document. You may obtain publicly available information related to this action by any of the following methods:

• Federal Rulemaking Website: Go to https://www.regulations.gov/ and search for Docket ID NRC-2020-0277.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. Draft plant-specific Supplement 23, Second Renewal, to the GEIS for License Renewal of Nuclear Plants, NUREG-1437, is available in ADAMS under Accession No. ML21306A226.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

• Project Website: Information related to the Point Beach second license renewal can be accessed on the NRC's Point Beach website at https://www.nrc.gov/reactors/operating/licensing/renewal/applications/point-beach-subsequent.html. Under the section titled “Public Involvement,” click on Draft EIS, NUREG-1437, Supplement 23, Second Renewal, Draft Report for Comment.

• Public Library: A copy of draft plant-specific Supplement 23, Second Renewal, to the GEIS for License Renewal of Nuclear Plants, NUREG-1437, is available at the following location (library access and hours are determined by local policy):

○ Lester Public Library, 1001 Adams Street, Two Rivers, WI 54241.

B. Submitting Comments

The NRC encourages electronic comment submission through the Federal Rulemaking website (https://www.regulations.gov). Please include Docket ID NRC-2020-0277 in your comment submission.

The NRC cautions you not to include identifying or contact information in comment submissions that you do not want to be publicly disclosed. The NRC will post all comment submissions at https://www.regulations.gov as well as enter the comment submissions into ADAMS. The NRC does not routinely edit comment submissions to remove identifying or contact information.

If you are requesting or aggregating comments from other persons for submission to the NRC, you should inform those persons not to include identifying or contact information that they do not want to be publicly disclosed in their comment submission. Your request should state that the NRC does not routinely edit comment submissions to remove such information before making the comment submissions available to the public or entering the comment into ADAMS.

II. Discussion

The NRC is issuing for public comment draft plant-specific Supplement 23, Second Renewal, to the GEIS for License Renewal of Nuclear Plants, NUREG-1437, regarding the proposed subsequent renewal of Renewed Facility Operating License Nos. DPR-24 and DPR-27 for an additional 20 years of operation for Point Beach. Draft plant-specific Supplement 23, Second Renewal, to the GEIS includes the preliminary analysis that evaluates the environmental impacts of the proposed action and alternatives to the proposed action. Based on the NRC staff's (i) review of the subsequent license renewal application, which includes the environmental report, supplemental documents, and the licensee's responses to the NRC staff's requests for additional information; (ii) consultation with Federal, State, Tribal, and local governmental agencies and consideration of input from other stakeholders; and (iii) independent review as documented in the assessments summarized in the draft SEIS, the NRC staff's preliminary recommendation is that the adverse environmental impacts of subsequent license renewal for Point Beach are not so great that preserving the option of subsequent license renewal for energy-planning decisionmakers would be unreasonable.

Dated: November 3, 2021.
For the Nuclear Regulatory Commission.
Robert B. Elliott,
Chief, Environmental Review License Renewal Branch, Division of Rulemaking, Environmental, and Financial Support, Office of Nuclear Material Safety and Safeguards.

[FR Doc. 2021-24407 Filed 11-8-21; 8:45 am]

BILLING CODE 7590-01-P